DEPARTMENT OF COMMERCE

National Oceanic and Atmospheric Administration

[Docket No.: 030506116-3156-02, I.D. 050103E]

Financial Assistance for Fisheries Disasters

AGENCY: National Marine Fisheries Service (NMFS), National Oceanic and Atmospheric Administration (NOAA), Commerce.

ACTION: Notice.

SUMMARY: The National Marine Fisheries Service (NMFS) publishes this notice to amend the application deadline for the Federal Register notice of solicitation for applications entitled Financial Assistance for Fisheries Disasters. The application deadline is changed from June 27, 2003 to June 25, 2003, 5 p.m., EDT.

DATES: Your application must be received by close of business (5 p.m. EDT June 25, 2003). Applications received after that time will not be considered for funding.

ADDRESSES: You can obtain an application package from, National Marine Fisheries Service, State/Federal Liaison Office, 9721 Executive Center Drive N., St. Petersburg, FL 33702. Send completed applications to this same address. You may also obtain forms from: http://caldera.sero.nmfs.gov/grants/grants.htm.

FOR FURTHER INFORMATION CONTACT: Ellie Francisco Roche, Chief, State/Federal Liaison Office at (727) 570-5324 or at Ellie.Roche@noaa.gov.

SUPPLEMENTARY INFORMATION: This notice amends the Federal Register notice of May 28, 2003 (68 FR 31686) announcing the solicitation of application for economic assistance to the South Atlantic shrimp fishery and the Gulf shrimp fishery. This notice amends the closing date for application of the referenced Federal Register notice from June 27, 2003 to June 25, 2003. This action is taken to expedite award of financial assistance to fisherman harmed by the disaster in the shrimp fisheries. NOAA does not believe this action prejudices any applicant's ability to apply. Applications received after the revised due date will not be considered for funding. All other requirements and criteria published in the May 28, 2003 notice remain the same.

Other Requirements

The Department of Commerce Pre-Award Notification Requirements for Grants and Cooperative Agreements contained in the Federal Register notice of October 1, 2001 (66 FR 49917), as amended by the Federal Register notice published on October 30, 2002 (67FR 55109), are applicable to this solicitation.

Intergovernmental Review—Applications under this program are subject to the provisions of Executive Order 12372, Intergovernmental Review of Federal Programs. Applicants must contact their State's Single Point of Contact (SPOC) to find out about and comply with the State's process under Executive Order 12372. The names and addresses of the SPOCs are listed in the Office of Management and Budget's Home page at http://www.whitehouse.gov/omb/grants/spoc.html.

Classification

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

This notice contains collection-of-information requirements subject to the Paperwork Reduction Act. The use of Standard Forms 424, and 269 has been approved by OMB under the respective control numbers 0348-0043, and 0348-0039. Notwithstanding any other provision of law, no person is required to respond to, nor shall any person be subject to a penalty for failure to comply with, a collection of information subject to the Paperwork Reduction Act, unless that collection displays a currently valid Office of Management and Budget (OMB) control number.

Dated: June 19, 2003.
Timothy R.E. Keeney,
Deputy Assistant Secretary for Oceans and Atmosphere.

[FR Doc. 03-15877 Filed 6-19-03; 12:59 pm]

BILLING CODE 3510-22-P